DEPARTMENT OF ENERGY

Federal Energy Regulatory Commission

[Docket No. RP02-14-002]

Crossroads Pipeline Company; Notice of Compliance Filing

January 3, 2002.

Take notice that on December 28, 2001, Crossroads Pipeline Company (Crossroads) tendered for filing as part of its FERC Gas Tariff, First Revised Volume No. 1, its entire tariff, with a proposed effective date of November 1, 2001. This tariff is being filed in compliance with the Commission's October 31, 2001 Letter Order in the above-referenced docket.

Crossroads states that the purpose of this filing is to change its tariff from 7 point font to 10 point font as required by the Commission.

Crossroads states that copies of its filing and has been sent by first-class mail, postage prepaid, by Crossroads to each of the parties on the official service list in Docket No. RP02-14-000. Copies have also been mailed to each of Crossroads' firm and interruptible customers and affected state Commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 02-469 Filed 1-7-02; 8:45 am]

BILLING CODE 6717-01-P